DEPARTMENT OF LABOR

Employment and Training Administration

[TA-W-70,051]

Aavid Thermalloy, LLC, Laconia, NH; Amended Certification Regarding Eligibility To Apply for Worker Adjustment Assistance

In accordance with Section 223 of the Trade Act of 1974, as amended (“Act”), 19 U.S.C. 2273, the Department of Labor issued a Certification of Eligibility to Apply for Worker Adjustment Assistance on June 26, 2009, applicable to workers of Aavid Thermalloy, LLC, Laconia, New Hampshire. The notice will soon be published in the Federal Register.

At the request of the State Agency, the Department reviewed the certification for workers of the subject firm. The workers are engaged in the production of thermal management equipment.

The review shows that all workers of Aavid Thermalloy, LLC, Laconia, New Hampshire, were previously certified eligible to apply for adjustment assistance under petition number TA-W-61,394, which expired on May 16, 2009.

Therefore, in order to avoid an overlap in worker group coverage, the Department is amending the May 18, 2008 impact date established for TA-W-70,051, to read May 17, 2009.

The amended notice applicable to TA-W-70,051 is hereby issued as follows:

All workers of Aavid Thermalloy, LLC, Laconia, New Hampshire, who became totally or partially separated from employment on or after May 17, 2009 through June 26, 2011, and all workers in the group threatened with total or partial separation from employment on June 26, 2009 through June 26, 2011, are eligible to apply for adjustment assistance under Chapter 2 of Title II of the Trade Act of 1974, as amended.

Signed at Washington, DC, this 9th day of July 2009.
Linda G. Poole,
Certifying Officer, Division of Trade Adjustment Assistance.

[FR Doc. E9-16603 Filed 7-13-09; 8:45 am]

BILLING CODE 4510-FN-P